DEPARTMENT OF TRANSPORTATION

Office of the Secretary

DOT's Identification of Federal Financial Assistance Infrastructure Programs Subject to the Build America, Buy America Provisions of the Infrastructure Investment and Jobs Act

ACTION: Notice of availability.

SUMMARY: Section 70913(a) of the Infrastructure Investment and Jobs Act requires that the head of each Federal agency shall submit to the Office of Management and Budget and to Congress a report that identifies each Federal financial assistance program for infrastructure administered by the Federal agency, and that that report be published in the Federal Register. The Department of Transportation is issuing this notice to make the public aware of the availability of that report on its website.

FOR FURTHER INFORMATION CONTACT: Darren Timothy at darren.timothy@dot.gov or at 202-366-4051.

SUPPLEMENTARY INFORMATION:

Background: The Bipartisan Infrastructure Law (known officially as the Infrastructure Investment and Jobs Act), signed by President Biden on November 15, 2021, includes the Build America, Buy America Act (BABA), which requires each agency to submit to OMB and Congress a report within 60 days of enactment that lists all Federal financial assistance programs for infrastructure administered by the agency and that identifies the programs that are “deficient,” as defined in the Act.

DOT's report was developed in accordance with the requirements found in section 70913 of the BABA and OMB guidance issued on December 20, 2021. It provides a listing of the Federal financial assistance programs for infrastructure administered by DOT; a discussion of domestic preference laws and requirements that apply to those programs; and identifies those programs that are currently not fully consistent with the requirements of section 70914 of the BABA. The report provides information on the Federal financial assistance programs for infrastructure and associated Buy America(n) requirements administered by DOT and its operating administrations, including the Federal Aviation Administration (FAA), Federal Highway Administration (FHWA), Federal Railroad Administration (FRA), Federal Transit Administration (FTA), and the Maritime Administration (MARAD), as well as the Office of the Secretary (OST).

The report is available online on the Department of Transportation website at https://www.transportation.gov/office-policy/transportation-policy/made-in-america/build-america-buy-america-60-day-report.

Dated: February 1, 2022.
Michael Shapiro,
Deputy Assistant Secretary.

[FR Doc. 2022-02441 Filed 2-4-22; 8:45 am]

BILLING CODE 4910-9X-P